DEPARTMENT OF JUSTICE

Antitrust Division

Notice Pursuant to the National Cooperative Research and Production Act of 1993—PDES, Inc.

Notice is hereby given that, on October 10, 2017, pursuant to Section 6(a) of the National Cooperative Research and Production Act of 1993, 15 U.S.C. 4301 et seq. (“the Act”), PDES, Inc. (“PDES”), filed written notifications simultaneously with the Attorney General and the Federal Trade Commission disclosing changes in its membership. The notifications were filed for the purpose of extending the Act's provisions limiting the recovery of antitrust plaintiffs to actual damages under specified circumstances. Specifically, Capvidia, Leuven, BELGIUM; Engesis, Rome, ITALY; Honeywell, Phoenix, AZ; LKSoftWare GmbH, Kuenzell, GERMANY; and NARA, Rocket Center, WV, have withdrawn as parties to this venture.

No other changes have been made in either the membership or planned activity of the group research project. Membership in this group research project remains open, and PDES intends to file additional written notifications disclosing all changes in membership.

On September 20, 1988, PDES filed its original notification pursuant to Section 6(a) of the Act. The Department of Justice published a notice in the Federal Register pursuant to Section 6(b) of the Act on October 14, 1988 (53 FR 40282).

The last notification was filed with the Department on April 20, 2016. A notice was published in the Federal Register pursuant to Section 6(b) of the Act on May 24, 2016 (81 FR 32776).

Patricia A. Brink,
Director of Civil Enforcement, Antitrust Division.

[FR Doc. 2017-24546 Filed 11-9-17; 8:45 am]

BILLING CODE P